DEPARTMENT OF VETERANS AFFAIRS

Advisory Committee Charter Renewals

AGENCY: Department of Veterans Affairs.

ACTION: Notice of Advisory Committee Charter Renewals.

SUMMARY: In accordance with the provisions of the Federal Advisory Committee ACT (FACA), 5 U.S.C. App. 2, and after consultation with the General Services Administration, the Secretary of Veterans Affairs has determined that the following Federal advisory committees are vital to the mission of the Department of Veterans Affairs (VA) and renewing their charters would be in the public interest. Consequently, the charters for the following Federal advisory committees are renewed for a two-year period, beginning on the dates listed below:

Committee name | Committee description | Charter renewed on
Genomic Medicine Program Advisory Committee | Provides advice on the scientific and ethical issues related to the establishment, development, and operation of a genomic medicine program within VA | March 28, 2016.
VA National Academic Affiliations Council | Provides advice to the Secretary regarding partnerships between VA and its academic affiliates | April 29, 2016.
Veterans' Rural Health Advisory Committee | Provides advice to the Secretary on health care issues affecting enrolled Veterans residing in rural areas | May 2, 2016.
* Cooperative Studies Scientific Evaluation Committee | Provides advice on VA cooperative studies, multi-site clinical research activities, and policies related to conducting and managing these efforts; ensures that new and ongoing projects maintain high quality, are based upon scientific merit, mission relevance, and are efficiently and economically conducted | May 4, 2016.
Health Services Research and Development Service Scientific Merit Review Board | Provides advice on the fair and equitable selection of the most meritorious research projects for support by VA research funds and ensures the high quality and mission relevance of VA's legislatively mandated research and development program. Also advises on the adequacy of protection of human and animal subjects | May 4, 2016.
Joint Biomedical Laboratory Research and Development and Clinical Science Research and Development Services Scientific Merit Review Board | Provides advice on the scientific quality, budget, safety, and mission relevance of investigator-initiated research proposals submitted for VA merit review consideration. The proposals may address research questions within the general areas of biomedical and behavioral research or clinical science research | May 4, 2016.
Rehabilitation Research and Development Service Scientific Merit Review Board | Provides advice on the fair and equitable selection of the most meritorious research projects for support by VA research funds; provides advice for research programs officials on program priorities and policies; and ensures that the VA Rehabilitation Research and Development program promotes functional independence and improves the quality of life for impaired and disabled Veterans | May 4, 2016.
* Note: The Cooperative Studies Scientific Evaluation Committee was formerly named Clinical Science Research and Development Service Cooperative Studies Scientific Evaluation Committee.

The Secretary has also renewed the charters for the following statutorily authorized Federal advisory committees for a two-year period, beginning on the dates listed below:

Committee name | Committee description | Charter renewed on
Advisory Committee on Minority Veterans | Authorized by 38 U.S.C. § 544. Provides advice on the administration of VA benefits for Veterans who are minority group members in the areas of compensation, health care, rehabilitation, outreach, and other services | March 7, 2016.
Advisory Committee on the Readjustment of Veterans | Authorized by 38 U.S.C. § 545. Provides advice to the Secretary on policies, organizational structures, and the provision and coordination of services to address Veterans' post-war readjustment to civilian life, with particular emphasis on post-traumatic stress disorder, alcoholism, other substance abuse, post-war employment, and family adjustment | April 16, 2016.
Special Medical Advisory Group | Authorized by 38 U.S.C. § 7312. Provides advice to the Secretary and the Under Secretary for Health on matters relating to the care and treatment of Veterans and other matters pertinent to the operations of the Veterans Health Administration, such as research, education, training of health manpower, and VA/DoD contingency planning | April 16, 2016.
Advisory Committee on Former Prisoners of War | Authorized by 38 U.S.C. § 541. Provides advice to the Secretary on the administration of benefits for Veterans who are former prisoners of war, and to assess the needs of such Veterans in the areas of service-connected compensation, health care, and rehabilitation | April 18, 2016.

FOR FURTHER INFORMATION CONTACT: Jeffrey Moragne, Committee Management Office, Department of Veterans Affairs, Advisory Committee Management Office (00AC), 810 Vermont Avenue NW., Washington, DC 20420; telephone (202) 266-4660; or email at Jeffrey.Moragne@va.gov. To view a copy of a VA Federal advisory committee charter, visit http://www.va.gov/advisory.

Dated: May 6, 2016.
Jelessa Burney,
Federal Advisory Committee Management Officer.

[FR Doc. 2016-11103 Filed 5-10-16; 8:45 am]

BILLING CODE P